DEPARTMENT OF ENERGY

Federal Energy Regulatory Commission

[Docket Nos. CP19-491-000; CP19-494-000]

National Fuel Gas Supply Corporation and Transcontinental Gas Pipe Line Company, LLC; Notice of Schedule For Environmental Review of The FM100 Project and Leidy South Project

On July 18, 2019 and July 31, 2019, National Fuel Gas Supply Corporation (National Fuel) and Transcontinental Gas Pipe Line Company, LLC (Transco) filed their respective applications in Docket Nos. CP19-491-000 and CP19-494-000 each requesting a Certificate of Public Convenience and Necessity pursuant to Sections 7(b) and 7(c) of the Natural Gas Act to construct, operate, and abandon certain natural gas pipeline facilities. The proposed projects are the FM100 Project, proposed by National Fuel, and the Leidy South Project, proposed by Transco (Projects). The FM100 Project would allow National Fuel to modernize a portion of its existing system and provide an additional 330,000 dekatherms per day (Dth/d) of incremental natural gas transportation capacity, all of which is fully subscribed to Transco. The Leidy South Project would provide 582,400 Dth/d of firm natural gas transportation service from shale producing areas in northern and western Pennsylvania to Transco's customers in the eastern United States. The Federal Energy Regulatory Commission (Commission or FERC) staff's environmental review of the Projects will be presented in a single environmental assessment (EA) because of the interrelatedness of the Projects.

On July 31, 2019 and August 14, 2019, the Commission issued Notices of Application for the FM100 Project and the Leidy South Project, respectively. Among other things, those notices alerted agencies issuing federal authorizations of the requirement to complete all necessary reviews and to reach a final decision on a request for a federal authorization within 90 days of the date of issuance of the Commission staff's EA for the Projects. This instant notice identifies the FERC staff's planned schedule for the completion of the EA for the Projects.

Schedule for Environmental Review

Issuance of EA—February 7, 2020

90-day Federal Authorization Decision Deadline—May 7, 2020

If a schedule change becomes necessary, additional notice will be provided so that the relevant agencies are kept informed of the Projects' progress.

Project Description

National Fuel and Transco are proposing to construct and operate interdependent natural gas infrastructure projects, which are both located entirely within Pennsylvania. The FM100 Project consists of 29.5 miles of new 20-inch-diameter pipeline in McKean and Potter Counties (Line YM58); 1.4 miles of 24-inch-diameter pipeline loop ¹ in Potter County (YM224 Loop); 0.4 mile of 12-inch-diameter pipeline in McKean County (Line KL Extension); construction of new Marvindale Compressor Station in McKean County; construction of new Tamarack Compressor Station in Clinton County; construction of the Marvindale Interconnect in McKean County; construction of the Carpenter Hollow over-pressurization protection station in Potter County; abandonment in place of a 44.9-mile-long portion of the existing 12-inch-diameter FM100 Pipeline in Clearfield, Elk, and Potter Counties; abandonment by removal of the existing Costello Compressor Station in Potter County; abandonment by removal of an existing meter station WHP-MS-4317X in Potter County; and installation and abandonment of appurtenances, such as mainline valves and anode beds, associated with the above facilities.

¹ A pipeline loop is a segment of pipe constructed parallel to an existing pipeline to increase capacity.

The Leidy South Project consists of 3.5 miles of 42-inch-diameter pipeline loop in Lycoming County (Benton Loop); 2.5 miles of 36-inch-diameter pipeline loop in Clinton County (Hilltop Loop); 6.3 miles of 36-inch-diameter pipeline loop and related abandonment of a 5.8-mile-long portion of the 23.4-inch-diameter Leidy Line A Pipeline (Hensel Replacement) in Clinton County; modification of existing Compressor Station 605 in Wyoming County; modification of existing Compressor Station 610 in Columbia County; construction of new Compressor Station 607 in Luzerne County; construction of new Compressor Station 620 in Schuylkill County; installation of associated facilities such as mainline valves, communication facilities, and pig ² launchers and receivers, and other appurtenances.

² A “pig” is a tool that the pipeline company inserts into and pushes through the pipeline for cleaning the pipeline, conducting internal inspections, or other purposes.

Background

On March 5, 2019, the Commission issued a Notice of Intent to Prepare an Environmental Assessment for the Proposed FM100 Project and the Leidy South Project and Request for Comments on Environmental Issues and Notice of Public Scoping Sessions (NOI). The NOI was issued during the pre-filing review of the Projects in Docket Nos. PF17-10-000 and PF19-1-000 and was sent to affected landowners; federal, state, and local government agencies; elected officials; environmental and public interest groups; Native American tribes; other interested parties; and local libraries and newspapers. In response to the NOI, the Commission received comments from the U.S. Environmental Protection Agency, U.S. Fish and Wildlife Service, Pennsylvania Department of Agriculture, Pennsylvania Department of Conservation and Natural Resources, Pennsylvania Department of Transportation; 1 state senator; 1 state representative; 3 local agencies; 3 special interest groups; 35 landowners; and 130 individuals.

The majority of issues raised by the commentors are related to the Leidy South Project's proposed Compressor Station 620 in Hegins, Pennsylvania, including impacts on air quality, noise, nearby residences, wildlife, prime farmland and organic farming, visual resources, waterbodies, zoning, future expansion of the facility, emergency response, and safety. Additional issues raised on the Projects include impacts on threatened and endangered species; the Hensel Replacement impact on the Tamarack Swamp Natural Area; landowner requests for removal of the to-be-abandoned Line FM100 from their property; and segmentation of projects under FERC review. All substantive comments will be addressed in the EA.

The U.S. Environmental Protection Agency and the U.S. Army Corps of Engineers are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Projects is available from the Commission's Office of External Affairs at (866) 208-FERC or on the FERC website (www.ferc.gov). Using the “eLibrary” link, select “General Search” from the eLibrary menu, enter the selected date range and “Docket Number” excluding the last three digits (i.e., CP19-491 or CP19-494), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: November 8, 2019.
Kimberly D. Bose,
Secretary.

[FR Doc. 2019-24816 Filed 11-14-19; 8:45 am]

BILLING CODE 6717-01-P